DEPARTMENT OF STATE

[Public Notice 5592]

Announcement of Meetings of the International Telecommunication Advisory Committee

SUMMARY: This notice announces meetings of the International Telecommunication Advisory Committee (ITAC) to continue to prepare advice on the U.S. position on ITU budget shortfalls and related matters.

The International Telecommunication Advisory Committee (ITAC) will meet to continue to prepare advice on the U.S. position on ITU budget shortfalls, their impact on the structure of the ITU study programs, and the impact on the U.S. preparatory process on December 1, 2006 from 9:30 to noon Eastern Time at a location in the metropolitan Washington area. A conference bridge will be provided.

This meeting is open to the public. Further information may be obtained from the secretariat minardje@state.gov, telephone 202 647-3234.

Dated: November 7, 2006.
James G. Ennis,
Foreign Affairs Officer, International Communications & Information Policy, Multilateral Affairs, Department of State.

[FR Doc. E6-19181 Filed 11-13-06; 8:45 am]

BILLING CODE 4710-07-P